DEPARTMENT OF JUSTICE

Notice of Lodging of Proposed Consent Decree Under the Comprehensive Environmental Response, Compensation, and Liability Act

On December 19, 2016, the Department of Justice lodged a proposed consent decree with the United States District Court for the District of Columbia in the lawsuit entitled United States v. Anthony Spanos, Inc., et al., Civil Action No. 1:14-cv-01625-RJL.

The United States filed this lawsuit under the Comprehensive Environmental Response, Compensation, and Liability Act (“CERCLA”). The United States' complaint names George A. Spanos, in his capacity as the trustee of the George A. Spanos Living Trust, Anthony Spanos, Inc., and Gus Dinos as defendants. The United States' complaint asserts claims against George A. Spanos, in his capacity as trustee of the George A. Spanos Living Trust, for recovery of costs incurred and to be incurred by the Environmental Protection Agency in connection with the removal of hazardous substances at the Georgia Avenue PCE Site, Anthony Spanos, Inc. for recovery of costs incurred and to be incurred by the Environmental Protection Agency in connection with the removal of hazardous substances at the Georgia Avenue PCE Site, as well as civil penalties for failure to respond to an information request issued by the Environmental Protection Agency, and Gus Dinos for civil penalties for failure to respond to an information request issued by the Environmental Protection Agency.

The United States previously lodged with the Court a proposed consent decree that, if entered by the Court, would resolve the United States' claims against George A. Spanos, in his capacity as the trustee of the George A. Spanos Living Trust. The presently proposed consent decree resolves the United States' remaining claims against Anthony Spanos, Inc. and Gus Dinos. Under the proposed consent decree, Anthony Spanos, Inc. agrees to assign its rights to proceeds under its insurance policies to the United States. In return, the United States agrees not to sue Anthony Spanos, Inc. under Sections 106 and 107 of CERCLA. In addition, under the proposed consent decree, Gus Dinos agrees to pay a $5,000 civil penalty.

The publication of this notice opens a period for public comment on the consent decree. Comments should be addressed to the Assistant Attorney General, Environment and Natural Resources Division, and should refer to United States v. Anthony Spanos, Inc., et al., D.J. Ref. No. 90-11-3-10721. All comments must be submitted no later than thirty (30) days after the publication date of this notice. Comments may be submitted either by email or by mail:

To submit comments: | Send them to:
By email | pubcomment-ees.enrd@usdoj.gov
By mail | Assistant Attorney General, U.S. DOJ—ENRD, P.O. Box 7611, Washington, DC 20044-7611.

During the public comment period, the consent decree may be examined and downloaded at this Justice Department Web site: https://www.justice.gov/enrd/consent-decrees. We will provide a paper copy of the consent decree upon written request and payment of reproduction costs. Please mail your request and payment to:

Consent Decree Library, U.S. DOJ—ENRD, P.O. Box 7611, Washington, DC 20044-7611.

Please enclose a check or money order for $6.25 (25 cents per page reproduction cost) payable to the United States Treasury.

Robert Brook,
Assistant Section Chief, Environmental Enforcement Section, Environment and Natural Resources Division.

[FR Doc. 2016-31005 Filed 12-22-16; 8:45 am]

BILLING CODE 4410-15-P